DEPARTMENT OF ENERGY

Federal Energy Regulatory Commission

[Docket No. RP01-168-000]

Northern Border Pipeline Company; Notice of Proposed Changes in FERC Gas Tariff

December 6, 2000.

Take notice that on December 1, 2000, Northern Border Pipeline Company (Northern Border) tendered for filing to become part of its FERC Gas Tariff, First Revised Volume No. 1, the following tariff sheets to become effective January 1, 2001:

Eighteenth Revised Sheet Number 156

Seventeenth Revised Sheet Number 157

Northern Border proposes to increase the Maximum Rate from 4,038 cents per 100 Dekatherm-Miles to 4.083 cents per 100 Dekatherm-Miles and to increase the Minimum Revenue Credit from 1.625 cents per 100 Dekatherm-Miles to 2.450 cents per 100 Dekatherm-Miles. The Maximum Rate reflects Northern Border's rate case at Docket No. RP99-322-000, which was suspended by the Commission in its order dated June 30, 1999 that became effective December 1, 1999. Thus, a portion of this Maximum Rate will be billed subject to refund. The revised Maximum Rate and Minimum Revenue Credit are being filed in accordance with Northern Border's Tariff provisions under Rate Schedule IT-1.

Northern Border states that copies of this filing have been sent to all of Northern Border's contracted shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.200(1)(a)(1)(iii) and the instructions on the Commission's web site at http://www.ferc.fed.us/efi/doorbell.htm.

David P. Boergers,
Secretary.

[FR Doc. 00-31564 Filed 12-11-00; 8:45 am]

BILLING CODE 6717-01-M